DEPARTMENT OF LABOR

Employment and Training Administration

[TA-W-58,118]

Innovion; Gresham, OR; Notice of Termination of Investigation

Pursuant to Section 221 of the Trade Act of 1974, as amended, an investigation was initiated on October 12, 2005 in response to a worker petition filed by a company official on behalf of workers at Innovion, Gresham, Oregon.

The petitioners have requested that the petition be withdrawn. Consequently, the investigation has been terminated.

Signed at Washington, DC, this 18th day of October, 2005.
Elliott S. Kushner,
Certifying Officer, Division of Trade Adjustment Assistance.

[FR Doc. E5-6136 Filed 11-3-05; 8:45 am]

BILLING CODE 4510-30-P